DEPARTMENT OF TRANSPORTATION

Federal Aviation Administration

14 CFR Part 39

[Docket No. FAA-2014-0446; Directorate Identifier 2013-NM-077-AD; Amendment 39-18069; AD 2015-02-02]

RIN 2120-AA64

Airworthiness Directives; Bombardier, Inc. Airplanes

AGENCY: Federal Aviation Administration (FAA), Department of Transportation (DOT).

ACTION: Final rule.

SUMMARY: We are adopting a new airworthiness directive (AD) for certain Bombardier, Inc. Model CL-215-6B11 (CL-215T Variant), and CL-215-6B11 (CL-415 Variant) airplanes. This AD was prompted by a report that, during a routine inspection, corrosion was discovered on the lower bearing of the rudder upper torque tube. This AD requires applying grease to the bearing; doing a general visual inspection of the expelled old grease for any contaminants, metal wear, and indication of corrosion, and replacing the bearing if necessary; and revising the maintenance or inspection program, as applicable, to incorporate the rudder spring tab operational test and a check of the rudder spring tab operation into the daily inspection. We are issuing this AD to prevent corroded bearings, which could result in a partial or total loss of axial support.

DATES: This AD becomes effective March 11, 2015.

The Director of the Federal Register approved the incorporation by reference of certain publications listed in this AD as of March 11, 2015.

ADDRESSES: You may examine the AD docket on the Internet at http://www.regulations.gov/#!docketDetail;D=FAA-2014-0446 or in person at the Docket Management Facility, U.S. Department of Transportation, Docket Operations, M-30, West Building Ground Floor, Room W12-140, 1200 New Jersey Avenue SE., Washington, DC.

For service information identified in this AD, contact Bombardier, Inc., 400 Côte-Vertu Road West, Dorval, Québec H4S 1Y9, Canada; telephone 514-855-5000; fax 514-855-7401; email thd.crj@aero.bombardier.com; Internet http://www.bombardier.com. You may view this referenced service information at the FAA, Transport Airplane Directorate, 1601 Lind Avenue SW., Renton, WA. For information on the availability of this material at the FAA, call 425-227-1221.

FOR FURTHER INFORMATION CONTACT: Ricardo Garcia, Aerospace Engineer, Airframe and Mechanical Systems Branch, ANE 171, FAA, New York Aircraft Certification Office, 1600 Stewart Avenue, Suite 410, Westbury, NY 11590; telephone 516-228-7331; fax 516-794-5531.

SUPPLEMENTARY INFORMATION:

Discussion

We issued a notice of proposed rulemaking (NPRM) to amend 14 CFR part 39 by adding an AD that would apply to certain Bombardier, Inc. Model CL-215-6B11 (CL-215T Variant), and CL-215-6B11 (CL-415 Variant) airplanes. The NPRM published in the Federal Register on July 15, 2014 (79 FR 41145).

Transport Canada Civil Aviation (TCCA), which is the aviation authority for Canada, has issued Canadian Airworthiness Directive CF-2013-08, dated March 12, 2013 (referred to after this as the Mandatory Continuing Airworthiness Information, or “the MCAI”), to correct an unsafe condition for certain Bombardier, Inc. Model CL-215-6B11 (CL-215T Variant), and CL-215-6B11 (CL-415 Variant) airplanes. The MCAI states:

During a routine inspection, corrosion was discovered on the Rudder Upper Torque Tube Lower bearing, part number (P/N) DAT48-64A. Corroded bearings may eventually result in a partial or total loss of axial support.

As such, Bombardier has issued Service Bulletin (SB) 215-A3171 Rev. 1 and SB 215-A4452 Rev. 1, which provide instructions to refresh the lubrication in the bearing in order to inspect for corrosion and/or contaminants in the existing grease. These SBs will also incorporate an operational check to the 50 hour maintenance scheduled tasks, and a test of the Rudder Spring Tab operation into the Daily inspection or the aircrew Preflight Check.

Required actions include applying grease to the bearing, doing a general visual inspection of the expelled old grease for any contaminants, metal wear, and indication of corrosion, and replacing the bearing if necessary; revising the maintenance or inspection program, as applicable, to incorporate the rudder spring tab operational test; and revising the maintenance or inspection program, as applicable, to incorporate a check of the rudder spring tab operation into the daily inspection. You may examine the MCAI in the AD docket on the Internet at http://www.regulations.gov/#!documentDetail;D=FAA-2014-0446-0002.

Comments

We gave the public the opportunity to participate in developing this AD. We received no comments on the NPRM (79 FR 41145, July 15, 2014) or on the determination of the cost to the public.

Conclusion

We reviewed the relevant data and determined that air safety and the public interest require adopting this AD as proposed, except for minor editorial changes. We have determined that these minor changes:

• Are consistent with the intent that was proposed in the NPRM (79 FR 41145, July 15, 2014) for correcting the unsafe condition; and

• Do not add any additional burden upon the public than was already proposed in the NPRM (79 FR 41145, July 15, 2014).

Related Service Information

Bombardier, Inc. has issued Bombardier Alert Service Bulletin 215-A3171, Revision 1, dated January 25, 2012, and Bombardier Alert Service Bulletin 215-A4452, Revision 1, dated January 3, 2012. This service information describes applying grease to the bearing; doing a general visual inspection of the expelled old grease for any contaminants, metal wear, and indication of corrosion, and replacing the bearing if necessary; and revising the maintenance or inspection program, as applicable, to incorporate the rudder spring tab operational test and a check of the rudder spring tab operation into the daily inspection. You can find this information at http://www.regulations.gov by searching for and locating Docket No. FAA-2014-0446.

Costs of Compliance

We estimate that this AD affects 5 airplanes of U.S. registry.

We also estimate that it will take about 2 work-hours per product to comply with the basic requirements of this AD. The average labor rate is $85 per work-hour. Required parts will be negligible. Based on these figures, we estimate the cost of this AD on U.S. operators to be $850, or $170 per product.

We have received no definitive data that would enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0446; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-02-02 Bombardier, Inc.: Amendment 39-18069. Docket No. FAA-2014-0446; Directorate Identifier 2013-NM-077-AD.

(a) Effective Date

This AD becomes effective March 11, 2015.

(b) Affected ADs

None.

(c) Applicability

This AD applies to the Bombardier, Inc. airplanes, certificated in any category, identified in paragraphs (c)(1) and (c)(2) of this AD.

(1) Model CL-215-6B11 (CL-215T Variant) airplanes, serial numbers 1056 through 1125 inclusive.

(2) Model CL-215-6B11 (CL-415 Variant) airplanes, serial numbers 2001 through 2990 inclusive.

(d) Subject

Air Transport Association (ATA) of America Code 27, Flight Controls.

(e) Reason

This AD was prompted by a report that, during a routine inspection, corrosion was discovered on the lower bearing of the rudder upper torque tube. We are issuing this AD to prevent corroded bearings, which could result in a partial or total loss of axial support.

(f) Compliance

Comply with this AD within the compliance times specified, unless already done.

(g) Lubrication of the Rudder Upper Torque Tube Bearing

Within 3 months after the effective date of this AD, apply grease to the bearing, and do a general visual inspection of the expelled old grease for any contaminants (i.e. ashes, dust, and algae), metal wear, and indication of corrosion, in accordance with the Accomplishment Instructions of Bombardier Alert Service Bulletin 215-A3171, Revision 1, dated January 25, 2012 (for Model CL-215-6B11 (CL-215T Variant) airplanes); or Bombardier Alert Service Bulletin 215-A4452, Revision 1, dated January 3, 2012 (for Model CL-215-6B11 (CL-415 Variant) airplanes). If any contaminants (i.e., ashes, dust, and algae), metal wear, or indication of corrosion are found, before further flight, replace the bearing with a new bearing, in accordance with the Accomplishment Instructions of Bombardier Alert Service Bulletin 215-A3171, Revision 1, dated January 25, 2012 (for Model CL-215-6B11 (CL-215T Variant) airplanes); or Bombardier Alert Service Bulletin 215-A4452, Revision 1, dated January 3, 2012 (for Model CL-215-6B11 (CL-415 Variant) airplanes). Repeat the inspection, thereafter, before and after each fire season or at intervals not to exceed 6 months, whichever occurs first.

Note 1 to paragraph (g) of this AD: It is suggested that paragraph (g) of this AD be carried out in conjunction with AD 2009-05-04, Amendment 39-15828 (74 FR 8860, February 27, 2009), as the task and task intervals are in the same general area.

(h) Operational Test

Within 30 days after the effective date of this AD: Revise the maintenance or inspection program, as applicable, to incorporate the rudder spring tab operational test, in accordance with the Accomplishment Instructions of Bombardier Alert Service Bulletin 215-A3171, Revision 1, dated January 25, 2012 (for Model CL-215-6B11 (CL-215T Variant) airplanes); or Bombardier Alert Service Bulletin 215-A4452, Revision 1, dated January 3, 2012 (for Model CL-215-6B11 (CL-415 Variant) airplanes).

(i) Daily Maintenance Procedure Check

Within 30 days after the effective date of this AD: Revise the maintenance or inspection program, as applicable, to incorporate a check of the rudder spring tab operation into the daily inspection, in accordance with the Accomplishment Instructions of Bombardier Alert Service Bulletin 215-A3171, Revision 1, dated January 25, 2012 (for Model CL-215-6B11 (CL-215T Variant) airplanes); or Bombardier Alert Service Bulletin 215-A4452, Revision 1, dated January 3, 2012 (for Model CL-215-6B11 (CL-415 Variant) airplanes).

(j) No Alternative Actions and Intervals

After accomplishment of the maintenance or inspection program revision required by paragraphs (h) and (i) of this AD, no alternative actions (e.g., inspections) or intervals may be used unless the actions or intervals are approved as an alternative method of compliance (AMOC) in accordance with the procedures specified in paragraph (k)(1) of this AD.

(k) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone 516-228-7300; fax 516-794-5531. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, New York ACO, ANE-170, Engine and Propeller Directorate, FAA; or Transport Canada Civil Aviation (TCCA); or Bombardier, Inc.'s TCCA Design Approval Organization (DAO). If approved by the DAO, the approval must include the DAO-authorized signature.

(l) Related Information

Refer to Mandatory Continuing Airworthiness Information (MCAI) Canadian Airworthiness Directive CF-2013-08, dated March 12, 2013, for related information. This MCAI may be found in the AD docket on the Internet at http://www.regulations.gov/#!documentDetail;D=FAA-2014-0446-0002.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Bombardier Alert Service Bulletin 215-A3171, Revision 1, dated January 25, 2012.

(ii) Bombardier Alert Service Bulletin 215-A4452, Revision 1, dated January 3, 2012.

(3) For service information identified in this AD, contact Bombardier, Inc., 400 Côte-Vertu Road West, Dorval, Québec H4S 1Y9, Canada; telephone 514-855-5000; fax 514-855-7401; email thd.crj@aero.bombardier.com; Internet http://www.bombardier.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on January 12, 2015.
John P. Piccola, Jr.,
Acting Manager, Transport Airplane Directorate, Aircraft Certification Service.

[FR Doc. 2015-01187 Filed 2-3-15; 8:45 am]

BILLING CODE 4910-13-P